DEPARTMENT OF COMMERCE

International Trade Administration

[A-580-839]

Certain Polyester Staple Fiber From the Republic of Korea: Final Results of Changed Circumstances Review

AGENCY: Enforcement and Compliance, International Trade Administration, Department of Commerce.

SUMMARY: On October 20, 2014, the Department of Commerce (the Department) published the notice of the preliminary results of this changed circumstances review (CCR) of the antidumping duty order on certain polyester staple fiber (PSF) from the Republic of Korea (Korea), in which the Department preliminarily determined that Toray Chemical Korea Inc. (Toray) is the successor-in-interest to Woongjin Chemical Co., Ltd. (Woongjin).¹ No interested party commented on the Preliminary Results, and there is no other information or evidence on the record that calls into question the Department's Preliminary Results. Thus, the Department continues to find that Toray is the successor-in-interest to Woongjin.

¹ See Certain Polyester Staple Fiber from the Republic of Korea: Preliminary Results of Changed Circumstances Review, 79 FR 62595 (October 20, 2014) (Preliminary Results), and the accompanying Preliminary Decision Memorandum (PDM).

DATES: Effective December 22, 2014.

FOR FURTHER INFORMATION CONTACT: Dana Mermelstein, AD/CVD Operations, Office I, Enforcement and Compliance, International Trade Administration, U.S. Department of Commerce, 14th Street and Constitution Avenue NW., Washington, DC 20230; telephone: 202-482-1391.

SUPPLEMENTARY INFORMATION:

Background

On May 25, 2000, the Department published notice of an antidumping duty order on PSF from Korea in the Federal Register.² On July 2, 2014, Toray requested that the Department conduct a CCR pursuant to section 751(b)(1) of the Tariff Act of 1930, as amended (the Act), and 19 CFR 351.216(b) to determine whether it is the successor-in-interest to Woongjin for purposes of the Order.³ On August 20, 2014, the Department initiated this CCR.⁴ On October 20, 2014, the Department published the Preliminary Results, in which it preliminarily determined that Toray is the successor-in-interest to Woongjin.⁵ The Department invited interested parties to comment on the Preliminary Results.⁶ No interested party commented on the Preliminary Results or requested a hearing.⁷

² See Notice of Amended Final Determination of Sales at Less Than Fair Value: Certain Polyester Staple Fiber From the Republic of Korea and Antidumping Duty Orders: Certain Polyester Staple Fiber From the Republic of Korea and Taiwan, 65 FR 33807 (May 25, 2000) (Order).

³ See Letter from Toray, “Certain Polyester Staple Fiber from the Republic of Korea,” (July 2, 2014).

⁴ See Certain Polyester Staple Fiber from the Republic of Korea: Initiation of Changed Circumstances Review, 79 FR 49285 (August 20, 2014) (Initiation Notice).

⁵ See Preliminary Results, 79 FR at 62596; see also PDM at 2-7.

⁶ See Preliminary Results, 79 FR at 62596-97.

⁷ Toray did not request a hearing, but informed the Department of its intent to participate if another interested party requested such a hearing. See Letter from Toray, “Certain Polyester Staple Fiber from the Republic of Korea: Request to Participate in Hearing” (November 19, 2014).

Scope of the Order

The product covered by the order is certain PSF. Certain PSF is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon or other finish, or not coated. PSF is generally used as stuffing in sleeping bags, mattresses, ski jackets, comforters, cushions, pillows, and furniture.

Merchandise of less than 3.3 decitex (less than 3 denier) currently classifiable in the Harmonized Tariff Schedule of the United States (HTSUS) at subheading 5503.20.0020 is specifically excluded from the order. Also specifically excluded from the order are PSF of 10 to 18 denier that are cut to lengths of 6 to 8 inches (fibers used in the manufacture of carpeting). In addition, low-melt PSF is excluded from the order. Low-melt PSF is defined as a bi-component fiber with an outer sheath that melts at a significantly lower temperature than its inner core.

The merchandise subject to this order is classified in the HTSUS at subheadings 5503.20.0040 and 5503.20.0060. Although the HTSUS subheadings are provided for convenience and customs purposes, the written description of these orders is dispositive.

Final Results of Changed Circumstances Review

Because no interested party commented on the Preliminary Results and there is no other information or evidence on the record that calls into question the Department's Preliminary Results, the Department adopts the reasoning and findings of fact in the Preliminary Results as the final results of the review.⁸ Thus, the Department continues to find that Toray is the successor-in-interest to Woongjin for the purpose of determining antidumping duty liability.

⁸ For a complete discussion of the Department's findings, see generally PDM, which is herein incorporated by reference and adopted by this notice.

Instructions to U.S. Customs and Border Protection

As a result of this determination, the Department finds that entries of subject merchandise exported by Toray should enter the United States at the cash deposit rate assigned to Woongjin in the most recently completed administrative review of the antidumping duty order on PSF from Korea, which is 2.13 percent ad valorem.⁹ Consequently, the Department will instruct U.S Customs and Border Protection to collect estimated antidumping duties for all shipments of subject merchandise exported by Toray and entered, or withdrawn from warehouse, for consumption on or after the publication date of this notice in the Federal Register at the cash deposit rate currently in effect for Woongjin. This cash deposit requirement shall remain in effect until further notice.

⁹ See Notice of Amended Final Results of Antidumping Duty Administrative Review: Certain Polyester Staple Fiber from Korea, 69 FR 67891, 67891 (November 22, 2004) (providing weighted-average dumping margin for Woongjin's predecessor, Seahan Industries, Inc.); see also Notice of Final Results of Changed Circumstances Antidumping Duty Review: Certain Polyester Staple Fiber from the Republic of Korea, 73 FR 49168 (August 20, 2008) (finding Woongjin as successor-in-interest to Seahan Industries, Inc.).

Notifications

This notice serves as a reminder to parties subject to administrative protective order (APO) of their responsibility concerning the disposition of proprietary information disclosed under APO in accordance with 19 CFR 351.306. Timely written notification of the return or destruction of APO materials, or conversion to judicial protective order, is hereby requested. Failure to comply with the regulations and terms of an APO is a sanctionable violation.

This notice is published in accordance with sections 751(b)(1) and 777(i) of the Act and 19 CFR 351.216(e).

Dated: December 12, 2014.
Paul Piquado,
Assistant Secretary for Enforcement and Compliance.

[FR Doc. 2014-29921 Filed 12-19-14; 8:45 am]

BILLING CODE 3510-DS-P